DEPARTMENT OF LABOR

Employment and Training Administration

[TA-W-41,060; TA-W-41,060A; TA-W-41,060B; TA-W-41,060C; TA-W-41,060D; TA-W-41,060E; and TA-W-41,060F]

Brooks Instruments, a Division of Emerson Process Management, Hatfield, Pennsylvania; Grayson, Georgia; Eden Prairie, Minnesota; Plantation, Florida; Boulder, Colorado; Houston Sales Office, Houston, Texas; Austin Sales Office, Austin, Texas; Amended Certification Regarding Eligibility To Apply for Worker Adjustment Assistance

In accordance with Section 223 of the Trade Act of 1974 (19 U.S.C. 2273) the Department of Labor issued a Certification of Eligibility to Apply for Worker Adjustment Assistance on April 9, 2002, applicable to workers of Brooks Instrument, a Division of Emerson Process Management, Hatfield, Pennsylvania. The notice was published in the Federal Register on April 24, 2002 (67 FR 20166).

At the request of the company, the Department reviewed the certification for workers of the subject firm. The workers are engaged in the production of sensors for flow meters.

Information shows that worker separations occurred at the Grayson, Georgia, Eden Prairie, Minnesota, Plantation, Florida, Boulder, Colorado, Houston Sales Office, Houston, Texas, Austin Sales Office, Austin, Texas locations of the subject firm. These locations provide sales and engineering support services for the subject firm's production facility in Hatfield, Pennsylvania.

Accordingly, the Department is amending the certification to included workers of the Brooks Instruments, a Division of Emerson Process Management, Grayson, Georgia, Eden Prairie, Minnesota, Plantation, Florida, Boulder, Colorado, Houston Sales Office, Houston, Texas, and the Austin Sales Office, Austin, Texas.

The intent of the Department's certification is to include all workers of Brooks Instruments, a Division of Emerson Process Management adversely affect by increased imports.

The amended notice applicable to TA-W-41,061 is hereby issued as follows:

“All workers of Brooks Instruments, a Division of Emerson Process Management, Hatfield, Pennsylvania (TA-W-41,060), Grayson, Georgia (TA-W-41,060A), Eden Prairie, Minnesota (TA-W-41,060B), Plantation, Florida (TA-W-41,060C), Boulder, Colorado (TA-W-41,060D), Houston Sales Office, Houston, Texas (TA-W-41,060E), and the Austin Sales Office, Austin, Texas (TA-W-41,060F), who became totally or partially separated from employment on or after February 7, 2001, through April 9, 2004, are eligible to apply for adjustment assistance under Section 223 of the Trade Act of 1974.”

Signed at Washington, DC this 14th day of January 2003.
Linda G. Poole,
Certifying Officer, Division of Trade Adjustment Assistance.

[FR Doc. 03-2867 Filed 2-5-03; 8:45 am]

BILLING CODE 4510-30-P